DEPARTMENT OF DEFENSE

Department of the Air Force

Privacy Act of 1974; System of Records

AGENCY: Department of the Air Force, DOD.

ACTION: Notice to Alter Systems of Records.

SUMMARY: The Department of the Air Force is proposing to alter a system of records in its existing inventory of record systems subject to the Privacy Act of 1974, (5 U.S.C. 552a), as amended. The alteration expands the category of individuals to include parachutists, and expands the records maintained to include information about the parachutist's jumps.

DATES: This proposed action will be effective without further notice on January 27, 2003 unless comments are received which result in a contrary determination.

ADDRESSES: Send comments to the Air Force Privacy Act Officer, AF CIO/P, 1155 Air Force Pentagon, Washington, DC 20330-1155.

FOR FURTHER INFORMATION CONTACT: Mrs. Anne Rollins at (703) 601-4043 or DSN 329-4043.

SUPPLEMENTARY INFORMATION: The Department of the Air Force systems of records notices subject to the Privacy Act of 1974, (5 U.S.C. 552a), as amended, have been published in the Federal Register and are available from the address above.

The proposed system reports, as required by 5 U.S.C. 552a(r) of the Privacy Act of 1974, as amended, was submitted on November 21, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 16, 2002.
Patricia L. Toppings,
Alternate OSD Federal Register Liaison Officer, Department of Defense.

F011 AF XO A

System name:

Air Force Operations Resource Management Systems (AFORMS) (May 7, 1999, 64 FR 24605).

Changes:

* * * * *

System name:

Delete entry and replace with “Aviation Resource Management System (ARMS)”.

* * * * *

Categories of individuals covered by the system:

Line eight, after “aviation” add “or parachutist”. Line nine, after “flying” add “or parachutist”. Line eleven, after “flying” add “or jump”.

Categories of records in the system:

Delete first paragraph and replace with ‘The ARMS data base contains a master file of flying and jump records for each individual in categories listed above, a month-to-date transaction file and a twelve month history file, and career flying and jump history. A centralized file of selected information from each individual's master record is also maintained at HQ USAF. In addition to automated data files, this system uses manual files for maintaining historical data and important source documents. An Individual Flight Record Folder (FRF) or Jump Record Folder (JRF) is established for each category of fliers and jumpers listed above and is the prime repository for a computer listing which itemizes each individual's flight and jump accomplishments as well as various source documents which serve to validate information entered into the computer data base for the system. Each Host Aviation Resource Management (HARM) office maintains a file of Aeronautical Orders and Military Pay Orders to provide source documentation of flying pay actions initiated by the flight manager. Information that is maintained in the automated files is derived directly from the ARMS master file or from subsequent processing of information entered into the master file.

* * * * *

Purpose(s):

Delete entry and replace with “The ARMS provides information and automated data processing capabilities used to manage and administer Air Force aviation and parachutist management such as aircrew and parachutist training and evaluation, flight and jump scheduling functions, flying and parachutist safety and related functions needed to attain and maintain combat or mission readiness. All information is entered into the system at the air base level. This information is then processed for use by flying or parachutist resource managers at all levels through periodic computer product reports or automated systems interfaces.

The specific uses of information and user categories for this system are:

Base Level Activities—(1) to establish each member’s flying or jump pay entitlement status and to monitor continuing entitlement in accordance with existing directions;

(2) to record each individual's flying or jump activities, including hours, jumps, and specific events, and provide indications of successful attainment of standards or deficiencies;

(3) to establish each individual's Aviation Service code for use in indicating type of flying or jump activity or reason for inactive status if applicable;

(4) to determine each rated member's eligibility to perform operational flying or jumping in accordance with existing USAF directives;

(5) to provide an indication of each rated member's total operational flying time in terms of total aviation or parachutist career duties;

(6) to establish ‘suspense lists’ for use in scheduling flying personnel for flights, schools, tests and similar events directly related to their duties as professional airmen;

(7) to provide each applicable individual and manager with all aviation career profile information needed to monitor flying career development, professional qualifications and training deficiencies;

(8) to provide information requested by the Air Staff, major command, or other base functions, which relates to the flying duties and accomplishments of all personnel in the file;

(9) to provide statistical data for management analysis and review of all aspects of each base's flying programs.

Other Base Users: Military Personnel Flight—uses information provided by this system, through an automated data interface, to report the flying status of all individuals in the files; provides flying career background information used for assignment actions.

Accounting and Finance Office—uses Military Pay Orders, prepared by aviation management offices, to start and stop flying and jump incentive pay in accordance with each individual's flying status and eligibility as reflected by the information in the system; uses the files to perform payment audits to identify individuals being paid improperly.

Base Supply—uses flying status information to determine which individuals are qualified to draw all authorized flying and jump equipment.

Base Medical Facility—uses system data to determine projected workloads associated with scheduled flight physical examinations.

Major Commands—use all system data to measure the effectiveness of subordinate unit training programs and to check command-wide flying effectiveness.

Air Force Personnel Center—uses ARMS information to establish assignment objectives and career development programs for USAF military personnel in the system.

HQ USAF—uses various identification and flying data to establish statistical data needed to verify the effectiveness of standard procedures, determine the need for policy modification, provide a timely and accurate census of various types of flyers and jumpers and provide a centralized point for collection and collation of data used by all levels of management.

The Defense Finance and Accounting Service uses ARMS information to validate all flying and jump payments.”

* * * * *

Safeguards:

Delete entry and replace with “Records are accessed by custodian of the record system, by person(s) responsible for servicing the record system in performance of their official duties. Access is specifically controlled by the HARM office. Records are stored in locked cabinets or rooms. Computer terminals are locked when not in use or kept under surveillance.”

* * * * *

Record source categories:

Add “or parachutist” after “aircrew”.

* * * * *

F011 AF XO A

System name:

Aviation Resource Management System (ARMS).

System location:

Headquarters United States Air Force and major command headquarters. Host, tenant and squadron Aviation Resource Management offices at Air Force installations, and McDonnell Douglas Training Systems, McDonnell Aircraft Company, 12301 Missouri Bottom Road, Hazelwood, MO 63042-1512. Official mailing addresses are published as an appendix to the Air Force’s compilation of record systems notices.

Categories of individuals covered by the system:

Air Force active duty military personnel, Air Force civilian employees, or contractors, Air Force Reserve and Air National Guard personnel, Army, Navy and Marine Corps active duty military personnel and those foreign military personnel who are assigned to aviation or parachutist duties by competent authority and attached to the U.S. Air Force (USAF) for flying or parachutist support or who have been suspended from flying or jump duties for a period of not more than 5 years.

Categories of records in the system:

The ARMS data base contains a master file of flying and jump records for each individual in categories listed above, a month-to-date transaction file and a twelve month history file, and career flying and jump history. A centralized file of selected information from each individual's master record is also maintained at HQ USAF. In addition to automated data files, this system uses manual files for maintaining historical data and important source documents. An Individual Flight Record Folder (FRF) or Jump Record Folder (JRF) is established for each category of fliers and jumpers listed above and is the prime repository for a computer listing which itemizes each individual's flight and jump accomplishments as well as various source documents which serve to validate information entered into the computer data base for the system. Each Host Aviation Resource Management (HARM) office maintains a file of Aeronautical Orders and Military Pay Orders to provide source documentation of flying pay actions initiated by the flight manager. Information that is maintained in the automated files is derived directly from the ARMS master file or from subsequent processing of information entered into the master file.

Categories of information maintained in the master file are:

Identification Data—provides individual identifiers and other information directly related to each individual in the file.

Duty Assignment Data—Includes information such as the major command of assignment for the individual, the Air Force Specialty Code indicating professional duties, the unit, the responsible Operations system manager, base of assignment, etc.

Aircrew Training and Qualification Data—includes information such as flight and ground professional flying training accomplishments, aircrew qualification status, physical status for flight duties, types of aircraft assigned, etc.

Flying Pay Entitlement Data—Includes information needed to administer the payment of flying incentive pay for each individual.

Local Use Data—contains information used by major or local command to supplement general system information as needed to meet unique unit requirements within the categories of information listed herein.

System Control Data—Contains computer data used to automatically control internal system functions.

Authority for maintenance of the system:

37 U.S.C. 301a, Incentive pay: Pub. L. 92-204, Appropriations Act for 1973, sec. 715; Pub. L. 93-570, Appropriations Act for 1974; Pub. L. 93-294, Aviation Career Incentive Act of 1974; DoD Directive 7730.57, Aviation Career Incentive Act and Required Annual Report; Air Force Instruction 11-401, Aviation Management; Air Force Instruction 11-402, Aviation and Parachutist Service, Aeronautical Ratings and Badges; Air Force Instruction 11-421, Aviation Resource Management; and E.O. 9397 (SSN).

Purpose(s):

The ARMS provides information and automated data processing capabilities used to manage and administer Air Force aviation and parachutist management such as aircrew and parachutist training and evaluation, flight and jump scheduling functions, flying and parachutist safety and related functions needed to attain and maintain combat or mission readiness. All information is entered into the system at the air base level. This information is then processed for use by flying or parachutist resource managers at all levels through periodic computer product reports or automated systems interfaces.

The specific uses of information and user categories for this system are:

Base Level Activities—(1) To establish each member's flying or jump pay entitlement status and to monitor continuing entitlement in accordance with existing directions;

(2) To record each individual's flying or jump activities, including hours, jumps, and specific events, and provide indications of successful attainment of standards or deficiencies;

(3) To establish each individual's Aviation Service code for use in indicating type of flying or jump activity or reason for inactive status if applicable;

(4) To determine each rated member's eligibility to perform operational flying or jumping in accordance with existing USAF directives;

(5) To provide an indication of each rated member's total operational flying time in terms of total aviation or parachutist career duties;

(6) To establish ‘suspense lists’ for use in scheduling flying personnel for flights, schools, tests and similar events directly related to their duties as professional airmen;

(7) To provide each applicable individual and manager with all aviation career profile information needed to monitor flying career development, professional qualifications and training deficiencies;

(8) To provide information requested by the Air Staff, major command, or other base functions, which relates to the flying duties and accomplishments of all personnel in the file;

(9) To provide statistical data for management analysis and review of all aspects of each base's flying programs.

Other Base Users: Military Personnel Flight—uses information provided by this system, through an automated data interface, to report the flying status of all individuals in the files; provides flying career background information used for assignment actions.

Accounting and Finance Office—uses Military Pay Orders, prepared by aviation management offices, to start and stop flying and jump incentive pay in accordance with each individual's flying status and eligibility as reflected by the information in the system; uses the files to perform payment audits to identify individuals being paid improperly.

Base Supply—uses flying status information to determine which individuals are qualified to draw all authorized flying and jump equipment.

Base Medical Facility—uses system data to determine projected workloads associated with scheduled flight physical examinations.

Major Commands—use all system data to measure the effectiveness of subordinate unit training programs and to check command-wide flying effectiveness.

Air Force Personnel Center—uses ARMS information to establish assignment objectives and career development programs for USAF military personnel in the system.

HQ USAF—uses various identification and flying data to establish statistical data needed to verify the effectiveness of standard procedures, determine the need for policy modification, provide a timely and accurate census of various types of flyers and jumpers and provide a centralized point for collection and collation of data used by all levels of management.

The Defense Finance and Accounting Service uses ARMS information to validate all flying and jump payments.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD (Blanket Routine Uses) published at the beginning of the Air Force's compilation of record system notices apply to this record system.

Policies and practices for storing, retrieving, accessing, retaining, and disposing of records in the system:

Storage:

Maintained in file folders, on computer magnetic tapes, magnetic disks, and CD-ROM.

Retrievability:

Retrieved by name and Social Security Number.

Safeguards:

Records are accessed by custodian of the record system, by person(s) responsible for servicing the record system in performance of their official duties and individuals in files. Access is specifically controlled by the Host Operations System Management office. Records are stored in locked cabinets or rooms. Computer terminals are locked when not in use or kept under surveillance.

Retention and disposal:

File is released to member upon separation.

System manager(s) and address:

Chief, Operational Training Division, Directorate of Operations and Training, Deputy Chief of Staff/Air and Space Operations, 1480 Air Force Pentagon, Washington, DC 20330-1480.

Notification procedure:

Individuals seeking to determine whether this system of records contains information on themselves should address written inquires to or visit the Chief, Operational Training Division, Directorate of Operations and Training, Deputy Chief of Staff/Air and Space Operations, 1480 Air Force Pentagon, Washington, DC 20330-1480 or visit their local HARM office. Official mailing addresses are published as an appendix to the Air Force's compilation of systems of records notices.

Individual will be asked to provide their name and Social Security Number.

Record access procedures:

Individuals seeking to access records about themselves contained in this system should address written requests to the Chief, Operational Training Division, Directorate of Operations and Training, Deputy Chief of Staff/Air and Space Operations, 1480 Air Force Pentagon, Washington, DC 20330-1480 or visit their local HARM office. Official mailing addresses are published as an appendix to the Air Force's compilation of systems of records notices.

Individual will be asked to provide their name and Social Security Number.

Contesting record procedures:

The Air Force rules for accessing records, and for contesting contents and appealing initial agency determinations are published in Air Force Instruction 37-132; 32 CFR part 806b; or may be obtained from the system manager.

Record source categories:

Information obtained from individuals, aircrew or parachutist managers, automated system interfaces and from source documents such as reports.

Exemptions claimed for the system:

None.

[FR Doc. 02-32449 Filed 12-24-02; 8:45 am]

BILLING CODE 5001-08-P